NATIONAL AERONAUTICS AND SPACE ADMINISTRATION

[Notice 01-010]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: January 22, 2001.

FOR FURTHER INFORMATION CONTACT: Kent N. Stone, Patent Counsel, Glenn Research Center at Lewis Field, Mail Code 500-118, Cleveland, Ohio 44135; Tel. (216) 433-8855; Fax (216) 433-6790.

NASA Case No. LEW-16685-2: Shape Memory Alloy Actuator;

NASA Case No. LEW-16056-3: Procedure for Making a Hollow Cathode Assembly;

NASA Case No. LEW-16684-1: Thermal Barrier Braided Rope Seal;

NASA Case No. LEW-16685-2: Actuator Control Using Shape Memory Alloys, Microsystems and Optically Controlled Switches;

NASA Case No. LEW-16690-1: An Assembly for Moving a Robotic Device along Selected Axes;

NASA Case No. LEW-16790-1: Exoskeletal Engine;

NASA Case No. LEW-16871-1: Method and Apparatus for Removal of Biologically Active Contaminants from the Surfaces of Surgical Implants and Other Biomedical Components and Materials;

NASA Case No. LEW-16999-1: Thermocouple Boundary Layer Rake;

NASA Case No. LEW-17022-1: Etch-Stop Fuse for Precision Thickness and Depth Control;

NASA Case No. LEW-17041-1: Method of Improving the Plating Process Employing Directed High Intensity Acoustic Beams.

Dated: January 11, 2001.
Edward A. Frankle,
General, Counsel.

[FR Doc. 01-1770 Filed 1-19-01; 8:45 am]

BILLING CODE 7510-01-U